DEPARTMENT OF EDUCATION

[Docket No. ED-2020-SCC-0129]

Agency Information Collection Activities; Submission to the Office of Management and Budget for Review and approval; Comment Request; Implementation of Key Federal Policies in the Wake of the Coronavirus Pandemic

AGENCY: Institute of Educational Sciences (IES), Department of Education (ED).

ACTION: Notice.

SUMMARY: In accordance with the Paperwork Reduction Act of 1995, ED is proposing a new information collection.

DATES: Interested persons are invited to submit comments on or before January 19, 2021.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Erica Lee, 202-245-7437.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Implementation of Key Federal Policies in the Wake of the Coronavirus Pandemic.

OMB Control Number: 1850-NEW.

Type of Review: A new information collection.

Respondents/Affected Public: State, Local, and Tribal Governments.

Total Estimated Number of Annual Responses: 228.

Total Estimated Number of Annual Burden Hours: 177.

Abstract: The coronavirus pandemic significantly disrupted K-12 educational operations and learning in spring 2020 and is likely to do so again during the 2020-21 school year. Federal education policies and funding are intended to support state and local agencies as they respond to the crisis. But the crisis may also shape the way federal programs are carried out. The U.S. Department of Education (the Department), through its Institute for Education Sciences (IES), is requesting clearance for a new data collection to examine how the pandemic may be influencing: (1) Implementation of, and waivers, from key provisions of the Elementary and Secondary Education Act, reauthorized as the Every Student Succeeds Act of 2015 (ESSA), and (2) state and district use of federal funds, including those provided specifically to help in the pandemic recovery, and (3) supports for English learners (ELs) in districts with high EL enrollments. The surveys of all state education agencies and a nationally representative sample of school districts is being conducted as part of an ongoing evaluation of Titles I and IIA of ESSA. Interviews of district and school personnel in high-EL districts are being conducted as part of an ongoing evaluation of Title III of ESSA.

Dated: December 15, 2020.
Stephanie Valentine,
PRA Coordinator, Strategic Collections and Clearance, Governance and Strategy Division, Office of Chief Data Officer, Office of Planning, Evaluation and Policy Development.

[FR Doc. 2020-27879 Filed 12-17-20; 8:45 am]

BILLING CODE 4000-01-P